DEPARTMENT OF COMMERCE

National Oceanic and Atmospheric Administration

50 CFR Part 622

[Docket No. 230414-0102]

RIN 0648-BL56

Fisheries of the Caribbean, Gulf of Mexico, and South Atlantic; Fishery Management Plans of Puerto Rico, St. Croix, and St. Thomas and St. John; Amendments 1

AGENCY: National Marine Fisheries Service (NMFS), National Oceanic and Atmospheric Administration (NOAA), Commerce.

ACTION: Proposed rule; request for comments.

SUMMARY: NMFS proposes to implement Amendment 1 to the Puerto Rico Fishery Management Plan (FMP), Amendment 1 to the St. Croix FMP, and Amendment 1 to the St. Thomas and St. John FMP (jointly Amendments 1), as submitted by the Caribbean Fishery Management Council (Council). This proposed rule and Amendments 1 would prohibit the use of buoy gear by the recreational sector in U.S. Caribbean Federal waters and modify the regulatory definition of buoy gear to increase the maximum number of allowable hooks used by the commercial sector in U.S. Caribbean Federal waters from 10 to 25. The purpose of this proposed rule and Amendments 1 is to allow commercial fishermen targeting deep-water fish, including snappers and groupers, in the U.S. Caribbean Federal waters to use buoy gear with up to 25 hooks, while protecting deep-water reef fish resources and habitats and minimizing user conflicts.

DATES: Written comments must be received on or before May 24, 2023.

ADDRESSES: You may submit comments on the proposed rule identified by “NOAA-NMFS-2023-0032” by either of the following methods:

• Electronic Submission: Submit all electronic public comments via the Federal e-Rulemaking Portal. Go to https://www.regulations.gov and enter “NOAA-NMFS-2023-0032”, in the Search box. Click on the “Comment” icon, complete the required fields, and enter or attach your comments.

• Mail: Submit written comments to Maria Lopez-Mercer, NMFS Southeast Regional Office, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address), confidential business information, or otherwise sensitive information submitted voluntarily by the sender will be publicly accessible. NMFS will accept anonymous comments (enter “N/A” in the required fields if you wish to remain anonymous).

Electronic copies of Amendments 1, which includes a fishery impact statement and a regulatory impact review, may be obtained from the Southeast Regional Office website at https://www.fisheries.noaa.gov/action/generic-amendment-1-island-based-fishery-management-plans-modification-buoy-gear-definition.

FOR FURTHER INFORMATION CONTACT: Maria Lopez-Mercer, telephone: 727-824-5305, or email: maria.lopez@noaa.gov.

SUPPLEMENTARY INFORMATION: NMFS and the Council manage reef fish and pelagic stocks and stock complexes in the U.S. Caribbean Exclusive Economic Zone (EEZ) under the Puerto Rico FMP, St. Croix FMP, and St. Thomas and St. John FMP (collectively the island-based FMPs). The Council prepared the island-based FMPs and NMFS implements the FMPs through regulations at 50 CFR part 622 under the authority of the Magnuson-Stevens Fishery Conservation and Management Act (Magnuson-Stevens Act).

Background

The Magnuson-Stevens Act requires NMFS and regional fishery management councils to prevent overfishing and to achieve, on a continuing basis, the optimum yield from federally managed fish stocks. These mandates are intended to ensure that fishery resources are managed for the greatest overall benefit to the nation, particularly with respect to providing food production and recreational opportunities, and protecting marine ecosystems. To further this goal, the Magnuson-Stevens Act requires fishery managers to minimize bycatch and bycatch mortality to the extent practicable. The Magnuson-Stevens Act also authorizes the Council and NMFS to regulate fishing activity to support the conservation and management of fisheries, which may include regulations that pertain to fishing for non-managed species.

On September 22, 2020, the Secretary of Commerce approved the island-based FMPs under section 304(a)(3) of the Magnuson-Stevens Act. For Puerto Rico and the U.S. Virgin Islands (USVI), the Council and NMFS manage fisheries under the island-based FMPs. NMFS published the final rule to implement the island-based FMPs on September 13, 2022 (87 FR 56204). The island-based FMPs contain management measures applicable for Federal waters off each respective island group. Among other measures, for reef fish and pelagic species managed in each island management area, these include allowable fishing gear and methods for harvest. Federal waters around Puerto Rico extend seaward from 9 nautical miles (nmi; 16.7 km) from shore to the offshore boundary of the EEZ. Federal waters around St. Croix, and St. Thomas and St. John extend seaward from 3 nmi (5.6 km) from shore to the offshore boundary of the EEZ. Federal regulations at 50 CFR 600.725(v)(V) describe the authorized fishing gear for each of the Council-managed fisheries and non-managed fisheries in each island management area.

In the U.S. Caribbean, small-scale commercial fishermen harvesting deep-water reef fish, particularly snappers (e.g., queen and cardinal snappers) and groupers, typically use a specific type of hook-and-line gear. This hook-and-line gear is known locally as vertical bottom line or “cala” in Puerto Rico and as vertical setline or deep-drop gear in the USVI. Fishing gear configurations and methods used by commercial fisherman to harvest these deep-water snappers and groupers, which includes buoy gear, varies in terms of vessel fishing equipment and materials used, hook type, size and number, number of lines used, types of bait, soaking time, and fishing grounds. Vertical bottom line fishing gear and deep-drop fishing gear can be either attached to the vessel while deployed and retrieved with an electrical reel or unattached to the vessel when rigged and deployed as buoy gear and retrieved with an electrical reel. Buoy gear, known as or “cala con boya” in Puerto Rico and as deep-drop buoy gear in the USVI, is typically used to harvest deep-water snappers and groupers in waters up to 1,500 ft (457 m), by commercial fishermen in Puerto Rico and to a lesser extent in the USVI.

Buoy gear is defined in 50 CFR 622.2 as fishing gear that fishes vertically in the water column that consists of a single drop line suspended from a float, from which no more than 10 hooks can be connected between the buoy and the terminal end, and the terminal end contains a weight that is no more than 10 lb (4.5 kg). This current definition of buoy gear applies in Federal waters of the Gulf of Mexico, South Atlantic, and U.S. Caribbean. In addition, buoy gear is listed as an authorized hook-and-line gear type in 50 CFR 600.725(v)(V) for those fishing commercially and recreationally for species that are not managed by the Council (i.e., non-FMP species) in Federal waters around Puerto Rico, St. Croix, and St. Thomas and St. John and for those fishing commercially for managed reef fish and managed pelagic species in Federal waters around Puerto Rico, St. Croix, and St. Thomas and St. John. As described in Amendments 1, although buoy gear is currently listed as an authorized gear for recreational fishing of species that are not managed under the island-based FMPs, there is no evidence that the recreational sector operating in U.S. Caribbean Federal waters uses or has used buoy gear. Use of buoy gear by the recreational sector is unlikely because it is a very specialized commercial gear type that is expensive and difficult to use by anyone other than a professional commercial fisherman.

In December 2021, commercial fishermen who target deep-water snapper and grouper in Federal waters around Puerto Rico and the USVI commented to the Council that they would like to increase the maximum number of hooks that are allowed while using buoy gear in Federal waters to reflect how the gear is currently used in state waters in both Puerto Rico and the USVI. Under the current definition of buoy gear that applies in Federal waters of the Gulf of Mexico, South Atlantic, and U.S. Caribbean, no more than 10 hooks may be connected between the buoy and the terminal end. Puerto Rico and USVI territorial regulations, on the other hand, do not limit the number of hooks allowed on deep-water reef fish buoy gear.

In this proposed rule and Amendments 1, the use of buoy gear in U.S. Caribbean Federal waters would be limited to those fishing commercially and would be prohibited by those fishing recreationally. Prohibiting the use of buoy gear by the recreational sector in U.S. Caribbean Federal waters would eliminate (1) potential future conflicts between commercial and recreational user groups at the subject fishing grounds, (2) additional ecological, biological, and physical effects that might result from recreational fishing for deep-water snapper and grouper, including risks to managed species that may result from misuse of buoy gear and bycatch of managed species by the recreational sector, and (3) any safety concerns potentially associated with the recreational use of buoy gear at the deep-water reef fish fishing grounds. This proposed rule and Amendments 1 would also modify the definition of buoy gear to allow commercial fishermen in U.S. Caribbean Federal waters to use a maximum of 25 hooks with buoy gear to reflect how the gear is commonly used by commercial fishermen in state waters in Puerto Rico and the USVI.

Management Measures Contained in This Proposed Rule

This proposed rule prohibits the use of buoy gear by the recreational sector in the U.S. Caribbean and modifies the buoy gear definition to increase the maximum number of allowable hooks used by the commercial sector in the U.S. Caribbean.

Recreational Buoy Gear Prohibition

Buoy gear is currently an authorized gear type for those fishing recreationally for species that are not managed by the Council (i.e., non-FMP species) in Federal waters around Puerto Rico, St. Croix, and St. Thomas and St. John. As described in Amendments 1, although the use of buoy gear by the recreational sector currently appears unlikely, this proposed rule would take a precautionary approach to prevent any future use of buoy gear by the recreational sector to fish for any species (i.e., managed and non-managed species) in Federal waters around Puerto Rico, St. Croix, and St. Thomas and St. John. With respect to non-managed species, the Magnuson-Stevens Act gives the Council and NMFS the authority to regulate fishing activity to support the conservation and management of fisheries. This can include regulations that pertain to fishing for non-managed species.

This proposed rule limits the use of buoy gear to the commercial sector, and seeks to prevent any potential future conflicts between commercial and recreational user groups resulting from the use of buoy gear. These potential conflicts could include competition for fishing grounds. This proposed rule also seeks to eliminate any additional ecological, biological and physical effects that might occur through additional recreational fishing-related pressure at those grounds and to those resources, including overfishing the deep-water snapper and grouper resources, risks to managed species from misuse of the buoy gear and increased bycatch of managed species that might result through the recreational use of buoy gear. Finally, the proposed rule seeks to eliminate safety concerns potentially associated with the presence of an emerging recreational fleet at the deep-water reef fish fishing grounds that could occur because of the specialized characteristics of the buoy gear operations.

Revision of Buoy Gear Definition

The current buoy gear definition, which applies in Federal waters of the Gulf of Mexico, South Atlantic, and U.S. Caribbean, specifies, among other measures, that this gear type may have no more than 10 hooks connected between the buoy and the terminal end.

This proposed rule would change the buoy gear definition to increase the maximum number of hooks allowed between the buoy and the terminal end from 10 to 25 hooks in the EEZ around Puerto Rico, St. Croix, and St. Thomas and St. John. This proposed change in the buoy gear definition would apply only where buoy gear is authorized in the U.S. Caribbean EEZ, and would apply only to the commercial sector as a result of this proposed rule. NMFS notes that this change would apply to the commercial harvest of both Council-managed fisheries and non-managed fisheries. The increased number of authorized buoy gear hooks would allow commercial fishermen fishing in Federal waters off Puerto Rico, St. Croix, and St. Thomas and St. John to legally use the same gear configuration that is commonly used by some commercial fisherman in state waters.

This proposed rule to revise the buoy gear definition in the U.S. Caribbean would also avoid enforcement complications for commercial fishermen harvesting multiple species on a trip because it would allow the use of the buoy gear with up to 25 hooks to harvest managed and non-managed deep-water fish. The change to the buoy gear definition would not change any other part of the buoy gear definition such as weight, construction materials for the drop line, and length of the drop line. Additionally, the current buoy gear definition, as it applies to the Gulf of Mexico and South Atlantic, would not change as a result of this proposed rule.

Measure Contained in This Proposed Rule Not in Amendments 1

In addition to the buoy gear measures contained in Amendments 1, this proposed rule would correct an error from a previous rulemaking. On September 13, 2022, NMFS published in the Federal Register the final rule implementing the island-based FMPs for the U.S. Caribbean (87 FR 56204, September 13, 2022). That final rule contained a minor administrative error in 50 CFR 622.440(a)(2), “Annual catch limits (ACLs), annual catch targets (ACTs), and accountability measures (AMs),” related to a notation for the recreational ACL for mutton snapper in Table 2 to § 622.440(a)(2). Mutton snapper, which is an indicator stock for Snappers, Snapper 4, is notated in that final rule with an asterisk when it should have been annotated with a superscript “1.” In Table 2 of 50 CFR 622.440(b)(2), all indicator stocks are to be notated with the superscript “1.” NMFS became aware of this inadvertent minor administrative error after the island-based FMPs final rule published. This proposed rule would revise the notation for mutton snapper in Table 2 to 50 CFR 622.440(b)(2), Snappers, Snapper 4, to be a superscript “1.” The recreational ACLs in the paragraph would remain the same and not change in this proposed rule.

Classification

Pursuant to section 304(b)(1)(A) of the Magnuson-Stevens Act, the NMFS Assistant Administrator has determined that this proposed rule is consistent with the island-based FMPs, other provisions of the Magnuson-Stevens Act, and other applicable law, subject to further consideration after public comment.

This proposed rule has been determined to be not significant for purposes of Executive Order 12866.

Pursuant to section 605(b) of the Regulatory Flexibility Act (RFA), the Chief Counsel for Regulation of the Department of Commerce has certified to the Chief Counsel for Advocacy of the Small Business Administration that this proposed rule, if adopted, would not have a significant economic impact on a substantial number of small entities. The factual basis for this determination follows.

A description of this proposed rule, why it is being considered, and the objectives of this proposed rule are contained in the SUPPLEMENTARY INFORMATION section of this proposed rule. The Magnuson-Stevens Act provides the statutory basis for this proposed rule.

This proposed rule concerns the use of buoy gear when fishing in Federal waters off Puerto Rico and the USVI. Buoy gear is a highly specialized commercial fishing gear; however, Federal regulations do not prohibit anglers (recreational fishers) from using it in Federal waters.

Both recreational fishers (anglers) and licensed commercial fishermen who own and operate commercial fishing businesses would be directly affected by the rule; however, anglers are not considered small entities as that term is defined in 5 U.S.C. 601(6), whether fishing from charter vessels/headboats (for-hire) fishing, private or leased vessels. Therefore, estimates of the number of anglers affected by the proposed rule and impacts on them are not provided here.

For RFA purposes, NMFS has established a small business size standard for businesses, including their affiliates, whose primary industry is commercial fishing (see 50 CFR 200.2). A business primarily engaged in the commercial fishing industry (NAICS code 11411) is a small business if it is independently owned and operated, is not dominant in its field of operation (including its affiliates) and its combined annual receipts that are no more than $11 million for all of its affiliated operations worldwide. The Puerto Rico fishery as a whole and USVI fishery as a whole are estimated to generate direct revenues of $6.06 million (2020 dollars) and $5.48 million annually, assuming current landings have fully recovered from hurricane season impacts of the past 5 years and the COVID-19 pandemic. Therefore, all commercial fishing businesses in Puerto Rico, St. Croix, and St. Thomas and St. John are small.

Commercial fishermen who harvest deep-water reef fish and other species, such as Council-managed pelagic species, have traditionally used buoy gear locally known as “cala con boya” in Puerto Rico and as deep-drop buoy gear in the USVI. Therefore, estimates of the numbers of small businesses that use buoy gear in Federal waters are based on the number and percentages of licensed commercial fishermen who reported fishing in Federal waters and targeting deep-water reef fish or reef fish prior to the 2017 hurricane season.

In 2016, there were 1,074 licensed commercial fishermen in Puerto Rico, and each of those licensed commercial fishermen represent a small commercial fishing business. In 2016, 811 of those commercial fishermen submitted catch reports and 383 of them submitted reports operated in Federal waters. Puerto Rico's commercial fishermen tend to target multiple categories of fish and shellfish, and the most popularly targeted category is reef fish. Approximately 77 percent of the fishermen (small businesses) target reef fish, and approximately 56 percent target deep-water snapper. It is estimated that from 214 (56 percent) to 295 (77 percent) of the 383 active small commercial fishing businesses that operate in Federal waters off of Puerto Rico may be directly affected the proposed rule.

The most recent Census of Licensed Fishers of the USVI reported 141 licensed commercial fishermen in St. Croix and 119 licensed commercial fishermen in St. Thomas and St. John, and each of those fishermen represent a small commercial fishing business. An estimated 52.5 percent (74) of the 141 licensed commercial fishermen in St. Croix and 80.7 percent (96) of the 119 licensed fishermen in St. Thomas and St. John were active. Moreover, 52.3 percent of active licensed fishermen in St. Croix and 14.8 percent of active licensed fishermen in St. Thomas and St. John harvest deep-water snapper. Hence, an estimated 39 (52.3 percent) of 74 active small commercial fishing businesses in St. Croix and an estimated 14 (14.8 percent) of 96 active small commercial fishing businesses in St. Thomas and St. John would be directly affected by the proposed rule.

This proposed rule would modify the definition of buoy gear. Currently, buoy gear in Federal waters of the Gulf of Mexico, South Atlantic, and U.S. Caribbean is defined as gear that fishes vertically in the water column and consists of a single drop line suspended from a float, from which no more than 10 hooks can be connected between the buoy and the terminal end, and the terminal end contains a weight that is no more than 10 lb (4.5 kg). The proposed rule would change the definition to allow the use of up to 25 hooks connected between the buoy and the terminal end in Federal waters of the U.S. Caribbean.

It is common practice to assume full regulatory compliance when establishing the baseline; however, anecdotal evidence indicates that buoy gear traditionally used in the U.S. Caribbean does not comply with current regulations. For that reason, the following sensitivity analysis examines the economic impacts of the proposed rule with varying rates of baseline compliance: full (100 percent), half (50 percent), and none (0 percent).

With full compliance, NMFS expects all of the small businesses that deploy buoy gear in Federal waters of the U.S. Caribbean could increase the numbers of hooks they use, which could increase landings and dockside revenues from those landings. However, NMFS has insufficient information to quantify either the numbers of small businesses that would increase the number of hooks they use or the changes in the numbers of hooks deployed. Using more hooks increases effort-related trip costs, and a commercial fishing business would not increase the number of hooks used if the increase in costs reduced its profit. Nonetheless, NMFS expects at least some of the small businesses would increase the number of hooks that they use and have increased landings and revenues (gross and net).

With 50 percent compliance, NMFS expects half of the small businesses that currently use buoy gear in the U.S. Caribbean EEZ could increase the numbers of hooks used, which could increase landings and dockside revenues from those landings, but not as much as if there were full compliance. NMFS has insufficient information to quantify either the numbers of small businesses that would increase the number of hooks they use or the changes in the numbers of hooks deployed. Nonetheless, NMFS expects some small businesses would increase the number of hooks they use, which would increase their landings and revenues.

With no compliance, NMFS expects none of the small businesses that currently use buoy gear in the U.S. Caribbean EEZ would change the number of hooks used because they currently use the maximum number of hooks they prefer to use, and no more than 25 per line. Therefore, there would be no changes in landings and dockside revenues from those landings, and the economic impact would be the same as the no-action alternative. However, even with 0 percent compliance, there could be small businesses that currently use more than 10, but less than 25, hooks per line; and an unknown number of those small businesses could increase the number of hooks that they use, which would increase their landings and revenues, but less than if there were 50 percent compliance.

In summary, there would be no adverse economic impact on any small businesses. At least some small businesses would increase the number of hooks that they use to increase their landings and revenues; however, there is insufficient information to generate an estimate.

No duplicative, overlapping, or conflicting Federal rules have been identified. In addition, no new reporting, record-keeping, or other compliance requirements are introduced by this proposed rule. This proposed rule contains no information collection requirements under the Paperwork Reduction Act of 1995.

List of Subjects

50 CFR Part 600

Caribbean, Fisheries, Fishing, Recreational.

50 CFR Part 622

Buoy gear, Caribbean, Commercial, Fisheries, Fishing, Recreational.

Dated: April 17, 2023.
Samuel D. Rauch, III,
Deputy Assistant Administrator for Regulatory Programs, National Marine Fisheries Service.

For the reasons set out in the preamble, 50 CFR parts 600 and 622 are proposed to be amended as follows:

PART 600—MAGNUSON-STEVENS ACT PROVISIONS

1. The authority citation for part 600 continue to read as follows:

Authority: 5 U.S.C. 561 and 16 U.S.C. 1801 et seq.

2. In § 600.725, in paragraph (v), in the table under heading “V. Caribbean Fishery Management Council”, revise entries 1.H., 2.H, and 3.H., to read as follows:

§ 600.725 General prohibitions.

* * * * *

(v) * * *

Fishery | Authorized gear types
* * * * * * *
V. Caribbean Fishery Management Council
* * * * * * *
1. Exclusive Economic Zone around Puerto Rico
* * * * * * *
H. Puerto Rico Recreational Fishery (Non-FMP) | Automatic reel, bandit gear, handline, longline, rod and reel, spear, powerhead, hand harvest, cast net.
* * * * * * *
2. Exclusive Economic Zone around St. Croix
* * * * * * *
H. St. Croix Recreational Fishery (Non-FMP) | Automatic reel, bandit gear, handline, longline, rod and reel, spear, powerhead, hand harvest, cast net.
* * * * * * *
3. Exclusive Economic Zone around St. Thomas and St. John
* * * * * * *
H. St. Thomas and St. John Recreational Fishery (Non-FMP) | Automatic reel, bandit gear, handline, longline, rod and reel, spear, powerhead, hand harvest, cast net.
* * * * * * *

PART 622—FISHERIES OF THE CARIBBEAN, GULF, AND SOUTH ATLANTIC

3. The authority citation for part 622 continues to read as follows:

Authority: 16 U.S.C. 1801 et seq.

4. In § 622.2, revise the definition of “Buoy gear” to read as follows:

§ 622.2 Definitions and acronyms.

* * * * *

Buoy gear means fishing gear that fishes vertically in the water column that consists of a single drop line suspended from a float, from which no more than 10 hooks (except in the EEZ around Puerto Rico, St. Croix, and St. Thomas and St. John where the maximum is 25 hooks) can be connected between the buoy and terminal end, and the terminal end contains a weight that is no more than 10 lb (4.5 kg). The drop line can be rope (hemp, manila, cotton or other natural fibers; nylon, polypropylene, spectra or other synthetic material) or monofilament, but must not be cable or wire. The gear is free-floating and not connected to other gear or the vessel. The drop line must be no greater than 2 times the depth of the water being fished. All hooks must be attached to the drop line no more than 30 ft (9.1 m) from the weighted terminal end. These hooks may be attached directly to the drop line; attached as snoods (defined as an offshoot line that is directly spliced, tied or otherwise connected to the drop line), where each snood has a single terminal hook; or as gangions (defined as an offshoot line connected to the drop line with some type of detachable clip), where each gangion has a single terminal hook.

* * * * *

5. In § 622.440, revise Table 2 to § 622.440(a)(2) to read as follows:

§ 622.440 Annual catch limits (ACLs), annual catch targets (ACTs), and accountability measures (AMs).

(a) * * *

(2) * * *

Table 2 to § 622.440(a)(2)
Family | Stock or stock complex and species composition | Recreational ACL
Angelfishes | Angelfish—French angelfish, gray angelfish, queen angelfish | 2,985 lb (1,353.9 kg).
Groupers | Grouper 3—coney,¹ graysby | 19,634 lb (8,905.8 kg).
| Grouper 4—black grouper, red grouper, tiger grouper, yellowfin grouper, yellowmouth grouper | 5,867 lb (2,661.2 kg).
| Grouper 5—misty grouper, yellowedge grouper | 4,225 lb (1,916.4 kg).
| Grouper 6—red hind,¹ rock hind | 34,493 lb (15,645.7 kg).
Grunts | Grunts—white grunt | 2,461 lb (1,116.2 kg).
Jacks | Jacks 1—crevalle jack | 41,894 lb (19,002.7 kg).
| Jacks 2—African pompano | 5,719 lb (2,594 kg)
| Jacks 3—rainbow runner | 8,091 lb (3,670 kg)
Parrotfishes | Parrotfish 2—princess parrotfish, queen parrotfish, redband parrotfish, redtail parrotfish, stoplight parrotfish, striped parrotfish | 17,052 lb (7,734.6 kg).
Snappers | Snapper 1—black snapper, blackfin snapper, silk snapper,¹ vermilion snapper, wenchman | 111,943 lb (50,776.4 kg).
| Snapper 2—cardinal snapper, queen snapper ¹ | 24,974 lb (11,328 kg).
| Snapper 3—lane snapper | 21,603 lb (9,798.9 kg).
| Snapper 4—dog snapper, mutton snapper,¹ schoolmaster | 76,625 lb (34,756.5 kg).
| Snapper 5—yellowtail snapper | 23,988 lb (10,880.7 kg)
| Snapper 6—cubera snapper | 6,448 lb (2,924.7 kg).
Surgeonfishes | Surgeonfish—blue tang, doctorfish, ocean surgeonfish | 860 lb (390 kg).
Triggerfishes | Triggerfish—gray triggerfish, ocean triggerfish, queen triggerfish ¹ | 7,453 lb (3,380.6 kg).
Wrasses | Wrasses 1—hogfish | 8,263 lb (3,748 kg).
| Wrasses 2—puddingwife, Spanish hogfish | 5,372 lb (2,436.6 kg).
¹ Indicator stock.

* * * * *

[FR Doc. 2023-08338 Filed 4-21-23; 8:45 am]

BILLING CODE 3510-22-P